POSTAL SERVICE

Privacy Act of 1974; System of Records

AGENCY: Postal Service™.

ACTION: Notice of modification to existing systems of records.

SUMMARY: The United States Postal Service® (Postal Service) is proposing to modify a General Privacy Act Systems of Records to support administrative retention and data element collection, as well as a new benefit offered to employees for third-party tax preparation services.

DATES: These revisions will become effective without further notice on March 27, 2017 unless comments received on or before that date result in a contrary determination.

ADDRESSES: Comments may be mailed or delivered to the Privacy and Records Office, United States Postal Service, 475 L'Enfant Plaza SW., Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Office, 202-268-3069 or privacy@usps.gov.

SUPPLEMENTARY INFORMATION: This notice is in accordance with the Privacy Act requirement that agencies publish their systems of records in the Federal Register when there is a revision, change, or addition, or when the agency establishes a new system of records. The Postal Service™ has determined that one General Privacy Act System of Records (SOR) should be revised to modify Categories of Records in the System, Purpose(s), Routine Uses of Records Maintained in the System, Including Categories of Users and the Purposes of Such Uses, along with Retention and Disposal.

The Postal Service is proposing modifications to SOR 100.400 to reflect a new benefit to allow employees, who voluntarily elect to be able to automatically upload information from their individual W-2 and 1095-C forms directly to a third-party tax preparation service. Employee tax information, such as their Form W-2, Wage and Tax Statement and Form 1095-C, Employer-Provided Health Insurance Offer and Coverage information, will remain securely safeguarded within USPS computer information systems and only uploaded to third-party tax preparation services upon voluntary request and consent of the individual employee. Uploading this information in a tax preparation service is considered an Internal Revenue Service (IRS) best practice. This will save employees from having to enter the information manually, providing convenience and reducing the risk of potential keying errors. Therefore, the SOR is being revised to include an appropriate purpose, routine use for the transfer of tax information, and retention of the employee tax information. In addition, other updates are included to account for separate administrative changes, which include the collection of employee's ACE ID for computer access in the Time and Attendance System for employees entering payroll information. Similarly, Retention and Disposal times are being updated to more accurately reflect record retention for monetary awards, ideas submitted by employees under the formal ideas program, and for overtime administrative records.

Pursuant to 5 U.S.C. 552a(e)(11), interested persons are invited to submit written data, views, or arguments on this proposal. A report of the proposed modifications has been sent to Congress and to the Office of Management and Budget for their evaluations. The Postal Service does not expect this amended system of records to have any adverse effect on individual privacy rights.

Accordingly, for the reasons stated, the Postal Service proposes changes in the existing system of records as follows:

USPS 100.400

SYSTEM NAME:

Personnel Compensation and Payroll Records

* * * * *

CATEGORIES OF RECORDS IN THE SYSTEM:

[Change item 1 to read as follows:]

1. Employee and family member information: Name(s), Social Security Number(s), Employee Identification Number, ACE ID, date(s) of birth, postal assignment information, work contact information, home address(es) and phone number(s), finance number(s), occupation code; occupation title; duty location, and pay location.

* * * * *

PURPOSE:

* * * * *

[Add 9 to read as follows:]

9. To generate W-2 and 1095-C information for use with external third-party tax preparation services at the request of the individual employee.

* * * * *

ROUTINE USES OF RECORDS IN THE SYSTEM, INCLUDING CATEGORIES OF USERS AND THE PURPOSES OF SUCH USES:

* * * * *

[Add L to read as follows:]

l. Disclosure of W-2 and 1095-C tax information records to external third-party tax preparation services.

* * * * *

Retention and Disposal

* * * * *

[Change 3 and 4 to read as follows:]

3. Records of monetary awards with a status that they have been processed, processing failed, cancelled, and reported (Service Award Pins, Retirement Service Awards, Posthumous Service Awards) are retained 7 years, as payroll records would have been affected/processed. Records of award submissions with the status approved, deleted, and/or draft are retained 31 days, as payroll records would not have been affected/processed.

4. Records of employee submitted ideas are maintained for 2 years after being closed.

* * * * *

[Add 8 and 9 to read as follows:]

8. Overtime administrative records are retained for 7 years.

9. Tax preparation records are limited to an employee's previous year's wages, tax documentation and health insurance coverage as required by the Affordable Care Act.

* * * * *

Stanley F. Mires,
Attorney, Federal Compliance.

[FR Doc. 2017-03474 Filed 2-22-17; 8:45 am]

BILLING CODE 7710-12-P